DEPARTMENT OF HEALTH AND HUMAN SERVICES

Office of the Secretary

Findings of Scientific Misconduct

AGENCY: Office of the Secretary, HHS.

ACTION: Notice.

SUMMARY: Notice is hereby given that the Office of Research Integrity (ORI) and the Acting Assistant Secretary for Health have taken final action in the following case:

Nancy J. Strout, Ph.D., University of Southern Maine: Based on the report of an inquiry conducted by the University of Southern Maine (USM) and additional analysis conducted by ORI in its oversight review, the U.S. Public Health Service (PHS) found that Nancy J. Strout, Ph.D., former interviewer, USM, engaged in scientific misconduct in research supported by Substance Abuse and Mental Health Services Administration (SAMSHA) cooperative agreement UD1 SM52362, “Maine evaluation of consumer-operated services.”

Specifically, PHS found that the Respondent engaged in scientific misconduct by fabricating interview data for at least 50 interviews of human subjects enrolled in the Maine Evaluation of Consumer-Operated Services Project for mental health services, and possibly up to 150 interviews or more (based on calculations performed by USM), causing the project to nullify all 346 interviews due to her involvement at one or more stages with the subjects.

PHS also found that the Respondent is not presently responsible to be a steward of Federal funds because she falsified invoices for interviews and receipts for interview incentive payments in pursuit of a fraudulent scheme to obtain payment for services she did not render.

Dr. Strout has entered into a Voluntary Exclusion Agreement in which she has voluntarily agreed for a period of three (3) years, beginning on July 23, 2004:

(1) To exclude herself from any contracting or subcontracting with any agency of the United States Government and from eligibility or involvement in, nonprocurement programs of the United States Government as defined in the debarment regulations at 45 CFR Part 76; and

(2) To exclude herself from serving in any advisory capacity to PHS including but not limited to service on any PHS advisory committee, board, and/or peer review committee, or as a consultant.

FOR FURTHER INFORMATION CONTACT: Director, Division of Investigative Oversight, Office of Research Integrity, 1101 Wootton Parkway, Suite 750, Rockville, MD 20852, (301) 443-5330.

Chris B. Pascal,
Director, Office of Research Integrity.

[FR Doc. 04-18076 Filed 8-6-04; 8:45 am]

BILLING CODE 4150-31-P